DEPARTMENT OF THE INTERIOR

Fish and Wildlife Service

[FWS-R9-IA-2012-N074; FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before April 25, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

Applicant: University of California, UC Davis Stable Isotope Facility, Davis, CA; PRT-60610A

The applicant requests a permit to import biological specimens of loggerhead sea turtles (Caretta caretta), leatherback sea turtles (Dermochelys coriacea), and leatherback sea turtles from Argentina for the purpose of scientific research. This notification covers activities to be conducted by the applicant over a 5-year period.

Applicant: University of Georgia, College of Veterinary Medicine, Infectious Diseases Laboratory, Athens, GA; PRT-009445

The applicant requests a renewal of their permit to import tissue or blood samples of any avian species (class Aves), reptile species (class Reptilia), and any fish (within the taxonomic phylum Chordata), from worldwide locations for the purpose of diagnostic testing for infectious diseases/scientific research. This notification covers activities to be conducted by the applicant over a 5-year period.

Applicant: Harkey Ranch, Eldorado, TX; PRT-67611A

The applicant requests a captive-bred wildlife registration under 50 CFR 17.21(g) for the Eld's deer (Rucervus eldii), barasingha (Rucervus duvaucelii), Arabian oryx (Oryx leucoryx), scimitar-horned oryx (Oryx dammah), addax (Addax nasomaculatus), and Dama gazelle (Nanger dama), to enhance their propagation or survival. This notification covers activities to be conducted by the applicant over a 5-year period.

Applicant: Michelle Rod Crawford, Sugarland, TX; PRT-67541A

The applicant requests a captive-bred wildlife registration under 50 CFR 17.21(g) for the scimitar-horned oryx (Oryx dammah), to enhance their propagation or survival. This notification covers activities to be conducted by the applicant over a 5-year period.

Applicant: Michelle Rod Crawford, Sugarland, TX; PRT-67542A

The applicant requests a permit authorizing interstate and foreign commerce, export, and cull of excess scimitar-horned oryx (Oryx dammah), from the captive herd maintained at their facility, for the purpose of enhancement of the survival of the species. This notification covers activities to be conducted by the applicant over a 5-year period.

Applicant: Earth Promise Inc., Fossil Rim Wildlife Center, Glen Rose, TX; PRT-726004

The applicant requests renewal and amendment of their captive-bred wildlife registration under 50 CFR 17.21(g) to add the family Bovidae to the families Equidae, and Felidae. This notification covers activities to be conducted by the applicant over a 5-year period.

Applicant: Jay Russo, Katy, TX; PRT-819300

The applicant requests renewal of their captive-bred wildlife registration under 50 CFR 17.21(g) for radiated tortoise (Astrochelys radiata), to enhance their propagation or survival. This notification covers activities to be conducted by the applicant over a 5-year period.

Applicant: James Thompson, Houston TX; PRT-67603A

The applicant requests a captive-bred wildlife registration under 50 CFR 17.21(g) for the scimitar-horned oryx (Oryx dammah), to enhance their propagation or survival. This notification covers activities to be conducted by the applicant over a 5-year period.

Applicant: Georgia Aquarium, Atlanta, GA; PRT-67609A

The applicant requests a captive-bred wildlife registration under 50 CFR 17.21(g) for the jackass penguin (Spheniscus demersus) to enhance their propagation or survival. This notification covers activities to be conducted by the applicant over a 5-year period.

Applicant: Lionshare Farm Zoological LLC, Greenwich, CT; PRT-195196

The applicant requests renewal of their captive-bred wildlife registration under 50 CFR 17.21(g) for the following families, genus, and species, to enhance their propagation or survival. This notification covers activities to be conducted by the applicant over a 5-year period.

Families:

Bovidae

Hylobatidae

Tapiridae

Species:

Ring-tailed lemur (Lemur catta)

Black lemur (Eulemur macaco)

Black and white ruffed lemur (Varecia variegata)

Cotton-headed tamarin (Saguinus oedipus)

Mandrill (Mandrillus sphinx)

Diana monkey (Cercopithecus diana)

Bornean orangutan (Pongo pygmaeus)

Snow leopard (Uncia uncia)

Leopard (Panthera pardus)

Grevy's zebra (Equus grevyi)

Galapagos tortoise (Chelonoidis nigra)

Radiated tortoise (Astrochelys radiata)

Applicant: Dakota Resources, Inc., Midland, TX; PRT-67605A

The applicant requests a captive-bred wildlife registration under 50 CFR 17.21(g) for the addax (Addax nasomaculatus), to enhance their propagation or survival. This notification covers activities to be conducted by the applicant over a 5-year period.

Applicant: Dakota Resources, Inc., Midland, TX; PRT-67606A

The applicant requests a permit authorizing interstate and foreign commerce, export, and cull of excess addax (Addax nasomaculatus), from the captive herd maintained at their facility, for the purpose of enhancement of the survival of the species. This notification covers activities to be conducted by the applicant over a 5-year period.

Applicant: Wayne Hahn, Hollywood, SC; PRT-785931

The applicant requests renewal of their captive-bred wildlife registration under 50 CFR 17.21(g) for golden parakeet (Guarouba guarouba) to enhance their propagation or survival. This notification covers activities to be conducted by the applicant over a 5-year period.

Applicant: Jack Phillips, Gladewater, TX; PRT-195823

The applicant requests amendment of their captive-bred wildlife registration under 50 CFR 17.21(g) to add scimitar-horned oryx (Oryx dammah) and addax (Addax nasomaculatus), to enhance their propagation or survival. This notification covers activities to be conducted by the applicant over a 5-year period.

Applicant: Jack Phillips, Gladewater, TX; PRT-67438A

The applicant requests a permit authorizing interstate and foreign commerce, export, and cull of excess scimitar-horned oryx (Oryx dammah) and addax (Addax nasomaculatus), from the captive herd maintained at their facility, for the purpose of enhancement of the survival of the species. This notification covers activities to be conducted by the applicant over a 5-year period.

Applicant: Feld Entertainment, Inc., Vienna, VA; PRT-59285A, 65776A, 65778A, 65780A, 65781A, 65782A, 65783A, 65785A, 65787A, 65789A, 657190A, 65792A, 65793A, 65796A, 65797A, 65800A, 66545A, 66546A, 66547A, 66548A, 66549A, and 66550A

The applicant request permits to export, re-export, and re-import captive-born tigers (Panthera tigris) and Asian elephants (Elephas maximus) to worldwide locations for the purpose of enhancement of the species through conservation education. This notification covers activities to be conducted by the applicant over a 3-year period and the import of any potential progeny born while overseas. The permit numbers and animals are:

Tigers:

Julie—65793A

Bali—65782A

Blanca—65783A

Della—65785A

Dragon—65787A

Govinda—65789A

India—65790A

Isis—65792A

Katana—65796A

Kimba—65797A

Mika—65800A

Tasha—66550A

Tyra—66549A

Singapur—66547A

Princess—66545A

Sundrum—66546A

Rambo—66548A

Asian elephants:

Asia—59285A

Luna—65776A

Tonka—65778A

Banko—657808

Siam II—65781A

Multiple Applicants

The following applicants each request a permit to import the sport-hunted trophy of one male bontebok (Damaliscus pygargus pygargus) culled from a captive herd maintained under the management program of the Republic of South Africa, for the purpose of enhancement of the survival of the species.

Applicant: James Young, Issaquah, WA; PRT-68172A

Applicant: James McNicol, Chandler, AZ; PRT-66555A

Brenda Tapia,
Program Analyst/Data Administrator, Branch of Permits, Division of Management Authority.

[FR Doc. 2012-7094 Filed 3-23-12; 8:45 am]

BILLING CODE 4310-55-P